DEPARTMENT OF THE INTERIOR

Bureau of Indian Affairs

Match-E-Be-Nash-She-Wish (Gun Lake) Tribe Liquor Control Ordinance

AGENCY: Bureau of Indian Affairs, Interior.

ACTION: Notice.

SUMMARY: This notice publishes the Secretary's certification of the Match-E-Be-Nash-She-Wish Band of Pottawatomi Indians (Gun Lake) Liquor Control Ordinance. The Ordinance regulates and controls the possession, sale, and consumption of liquor within the tribal lands. The tribal lands are located in Indian Country and this Ordinance allows for possession and sale of alcoholic beverages within their boundaries. This Ordinance regulates the possession, sale and consumption of alcoholic beverages on tribal trust land in conformity with applicable tribal, Federal and state laws.

DATES: Effective Date: This Ordinance is effective July 16, 2010.

FOR FURTHER INFORMATION CONTACT: David Christensen, Tribal Operations Officer, Midwest Regional Office, One Federal Drive, Room 550, Ft. Snelling, MN 55111, Telephone (612) 725-4554; or Elizabeth Colliflower, Office of Tribal Services, 1849 C Street, NW., Mail Stop 4513-MIB, Washington, DC 20240; Telephone (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian Country. The Tribal Council of the Gun Lake Tribe Liquor Control Ordinance adopted this Liquor Ordinance on March 9, 2010. The purpose of this Ordinance is to govern the sale, possession and distribution of alcohol within Gun Lake's tribal land.

This notice is published in accordance with the authority delegated by the Secretary of the Interior to the Assistant Secretary—Indian Affairs. I certify that this Liquor Ordinance of the Match-E-Be-Nash-She-Wish Band of Pottawatomi Indians (Gun Lake) was duly adopted by its Tribal Council by Resolution No. 10-582 on March 9, 2010.

Dated: July 8, 2010.
Larry Echo Hawk,
Assistant Secretary—Indian Affairs.

The Liquor Ordinance of the Gun Lake Tribe Liquor Control Ordinance reads as follows:

Match-E-Be-Nash-She-Wish Band of Pottawatomi Indians Liquor Control Ordinance

Chapter 1

General Provisions

Section 1 This Ordinance may be cited as the “Gun Lake Tribe Liquor Control Ordinance.”

Section 2 The purpose of this Ordinance is to regulate the possession, sale and consumption of Alcoholic Beverages on Tribal Trust Land in conformity with applicable Tribal, federal, and state law.

Section 3 The possession, transportation, storage, sale and consumption of Alcoholic Beverages shall be lawful on Tribal Trust Land, provided that such activities comply with the provisions of this Ordinance, and with the applicable provisions of the laws of the State of Michigan.

Chapter 2

Definitions

For purposes of this Ordinance the following definitions apply:

(a) “Alcohol” means that substance known as ethyl alcohol, hydrated oxide of ethyl, or spirit of wine, commonly produced by the fermentation or distillation of grain, starch, grapes, molasses or other substances, including all dilutions and mixtures of this substance.

(b) “Alcoholic Beverage” means any liquid or mixture intended for human consumption that contains more than 0.5% of Alcohol by volume.

(c) “Intoxicated Person” means a person whose mental or physical functioning is impaired as a result of the use of alcohol.

(d) “Licensee” means one who holds a valid license from the Tribe to sell Alcoholic Beverages on the Tribal Trust Land, and includes employees or agents of the Licensee.

(e) “Minor” means a person less than twenty-one (21) years of age.

(f) “Ordinance” means this Ordinance to regulate the possession, transportation, storage, sale and consumption of Alcoholic Beverages, adopted pursuant to 18 U.S.C. 1161.

(g) “Tribal Council” means the governing body of the Tribe as established by Article VI of the Tribe's Constitution.

(h) “Tribal Court” means the Court established pursuant to Article VII, Section 1(s) of the Tribe's Constitution.

(i) “Tribal Trust Land” means those lands held in trust by the United States of America for the benefit of the Tribe.

(j) “Tribe” means the Match-E-Be-Nash-She-Wish Band of Pottawatomi Indians of Michigan, also known as the Gun Lake Tribe.

Chapter 3

Tribal Liquor License

Section 1 No person or entity shall engage in the sale of Alcoholic Beverages on Tribal Trust Land, unless licensed to do so by the Tribal Council in accordance with the terms of this Ordinance and in compliance with the Tribal-State Class III Gaming Compact between the Tribe and the State of Michigan.

Section 2 The authority to issue, suspend and revoke a Tribal Liquor License is vested in the Tribal Council, under Article VII, Section 1 (q) of the Tribe's Constitution. No License shall be issued under this Ordinance except upon a sworn application filed with the Tribal Council containing, at a minimum, the following:

(a) A description of the area or premises to be licensed and the hours that Alcoholic Beverages will be served.

(b) An agreement by the applicant to observe and abide by all conditions of the Tribal Liquor License, all applicable state liquor laws, and federal law.

(c) A statement that the applicant has never been convicted of a felony.

(d) An application fee in an amount set by the Tribal Council.

Section 3 Notice of the Tribal Liquor License application shall be posted on the premises and distributed to Tribal Citizens in a manner that provides an opportunity to comment or file a protest regarding the application.

Section 4 Every Tribal Liquor License application shall be considered by the Tribal Council in a meeting at which the applicant and Tribal Citizens shall have the right to be present, to observe the proceedings, and to offer sworn oral or written testimony or other evidence relevant to the application. After the meeting, the Tribal Council shall determine whether to grant or deny the License, based on whether the Tribal Council, in its sole discretion, determines that granting the License is in the best interest of the Tribe.

Section 5 Any Tribal Liquor License shall be subject to such conditions as the Tribal Council shall impose, including, but not limited to the following:

(a) The License shall be for a term of one year, shall identify the specific areas and hours permitted for the sale of Alcoholic Beverages, and shall be subject to annual renewal.

(b) The Licensee shall at all times maintain an orderly, clean, and neat establishment, both inside and outside the licensed premises.

(c) The licensed premises shall be open to inspection by duly authorized Tribal officials at all times during regular business hours.

(d) No Alcoholic Beverages shall be sold, served, disposed of, delivered, or given to any person, or consumed on the licensed premises, except during the hours and days that would be permitted by the applicable laws of the State of Michigan, unless the hours of service are further limited by the Tribal Council.

(e) Any spirits resold for consumption on the Tribal Trust Land shall be purchased from the Michigan Liquor Control Commission, and beer and wine shall be purchased from distributors licensed by the Michigan Liquor Control Commission.

(f) All acts and transactions performed under authority of the Tribal Liquor License shall be in conformity with the applicable laws of the State of Michigan, the provisions of this Ordinance, and any rules or policies promulgated under this Ordinance.

(g) No person under the age of twenty-one (21) shall be sold, served, delivered, given or allowed to consume Alcoholic Beverages at any location on the Tribal Trust Land, and no person under the age of eighteen (18) years shall be employed to sell or serve any Alcoholic Beverages.

(h) Alcoholic Beverages shall not be comped, given away, or furnished without charge in any facility licensed under this Ordinance.

(i) No person licensed under this Ordinance shall sell, deliver, give, or furnish any Alcoholic Beverage to any Intoxicated Person.

Section 6 Notwithstanding any other provision of this Ordinance, a Tribal Liquor License is a permit for a fixed time period. A Tribal Liquor License shall not be deemed a property right or vested right of any kind. The granting of a Tribal Liquor License shall not create any entitlement to any renewal of such license.

Section 7 No Tribal Liquor License issued under this Ordinance may be assigned, pledged, transferred, leased, licensed or sold. Any attempt to do so is grounds for the immediate revocation of the License.

Section 8 Any Tribal Liquor License issued hereunder may be suspended or revoked by the Tribal Council for the breach of any provision of this Ordinance, or any condition of the Tribal Liquor License, upon fifteen (15) days written notice to the Licensee, unless a shorter notice period is necessary to preserve public health and safety on the Tribal Trust Land. The Licensee may request a hearing before the Tribal Council. The decision of the Tribal Council shall be final.

Chapter 4

Incorporation of Michigan Laws by Reference

Section 1 In accordance with 18 U.S.C. 1161, the Tribe hereby adopts and applies as tribal law those Michigan laws, as now or hereafter amended, relating to the sale and regulation of Alcoholic Beverages encompassing the following areas: Sale to a Minor; sale to a visibly intoxicated individual; sale of adulterated or misbranded liquor; and hours of operation.

The following laws from the Michigan Liquor Control Code of 1998 are hereby adopted and applied as Tribal law:

436.1233 Uniform prices for sale of alcoholic liquor; gross profit; discount for certain sales of alcoholic liquor.

436.1701 Selling or furnishing alcoholic liquor to person less than 21 years of age; failure to make diligent inquiry; misdemeanor; signs; consumption of alcoholic liquor as cause of death or injury; felony; enforcement against licensee; defense in action for violation; report; definitions.

436.1703 Purchase, consumption, or possession of alcoholic liquor by minor; attempt; violation; fines; sanctions; furnishing fraudulent identification to minor; screening and assessment; chemical breath analysis; construction of section; exceptions; “any bodily alcohol content” defined.

436.1707 Selling, serving, or furnishing alcohol; prohibitions.

436.1801 Granting or renewing license; selling, furnishing or giving alcoholic liquor to minor or person visibly intoxicated; right of action for damage or personal injury; actual damages; institution of action; notice; survival of action; separate actions by parents; commencement of action against retail licensee; indemnification; defenses available to licensee; rebuttable presumption; prohibited causes of action; section as exclusive remedy for money damages against licensee; civil action subject to revised judicature act.

436.1815 Adherence to responsible business practices as defense; compensation of employee on commission basis.

436.1901 Compliance required, prohibited acts.

436.1905 Selling or furnishing alcoholic liquor to minor; enforcement actions prohibited; conditions; exception.

436.2005 Adulterated, misbranded, or refilled liquor.

436.2025 Giving away alcoholic liquor; samplings or tastings of alcoholic liquor; sales to intoxicated persons prohibited.

The laws referenced in this section shall apply in the same manner and to the same extent as such laws apply elsewhere in Michigan, unless otherwise agreed by the Tribe and State.

Section 2 Whenever such Michigan laws are incorporated by reference, amendments to those laws shall also be deemed to be incorporated upon their effective date in the State of Michigan, without the need for further action by the Tribal Council.

Section 3 Nothing in this Ordinance shall be construed as consent by the Tribe to the jurisdiction of the State of Michigan or any of its courts or subordinate political subdivisions over any activity arising under this Ordinance, nor shall anything in this Ordinance constitute an express or implied waiver of the sovereign immunity of the Tribe.

Chapter 5

General Penalties

Section 1 Any violation of this Ordinance, including any regulation under this Ordinance, shall be subject to a civil fine of not more than Five Hundred Dollars ($500.00) for each such violation. The Tribal Council may adopt by Resolution a schedule of fines for each violation, taking into account the severity of the offense and threat the violation may pose to the general health and welfare. Such schedule may also provide for the imposition of increased monetary penalties for repeated violations. The civil penalties provided for in this section shall be in addition to any criminal penalties that may be imposed under applicable law.

Section 2 The Tribal Council is authorized to adopt such regulations as may be necessary to implement the provisions of this Ordinance.

Section 3 This Ordinance shall take effect immediately upon its adoption by the Tribal Council.

[FR Doc. 2010-17363 Filed 7-15-10; 8:45 am]

BILLING CODE 4310-4J-P